DEPARTMENT OF AGRICULTURE

Food and Nutrition Service

Agency Information Collection Activities: Supplemental Nutrition Assistance Program (SNAP) Requirements for National Directory of New Hires for Employment Verification

AGENCY: Food and Nutrition Service (FNS), USDA.

ACTION: Notice.

SUMMARY: In accordance with the Paperwork Reduction Act of 1995, this notice invites the general public and other public agencies to comment on this proposed information collection. This collection is a revision of a currently approved collection.

DATES: Written comments must be received on or before May 13, 2024.

ADDRESSES: Comments may be sent to: Maribelle Balbes, Food and Nutrition Service, U.S. Department of Agriculture, 1320 Braddock Place, 5th Floor, Alexandria, VA 22314. Comments may also be submitted via email to snapsab@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Jennifer Ragan at 703-457-6786.

SUPPLEMENTARY INFORMATION: In 2016, an Interim Final Rule titled “Supplemental Nutrition Assistance Program: Requirement for National Directory of New Hires Employment Verification and Annual Program Activity Reporting,” was published in the Federal Register. This rule codified section 4013 of the Agricultural Act of 2014, requiring State agencies to access employment data through the National Directory of New Hires (NDNH) at the time of certification, including recertification, to determine eligibility status and correct benefit amount for SNAP applicants.

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: SNAP Requirement for National Directory of New Hires Employment Verification.

Form Number: N/A.

OMB Control Number: 0584-0608.

Expiration Date: 07/31/2024.

Type of Request: Revision of a currently approved collection.

Abstract: Supplemental Nutrition Assistance Program (SNAP) regulations at 7 CFR 272.16 require that each State agency must compare identifiable information about each adult household member against data from the U.S. Department of Health and Human Services' (HHS) National Directory of New Hires (NDNH). This comparison will be used to determine the eligibility status of the household and determine the correct benefit amount the household should receive. Following OMB approval of this collection, FNS intends to merge this collection with OMB control number 0584-0064.

Verification of Match; Notice of Match Results: The State agency must independently verify the information prior to taking any adverse action against an individual. Should the State agency receive employment information via the NDNH that was previously unreported by the household, the State agency must issue a notice of match results informing the household of the match and providing them with the opportunity to verify the information. The State agency may contact the employer directly, depending upon applicable reporting requirements as defined at 7 CFR 273.12.

Notice of Adverse action or Notice of Denial: The Notice of Adverse Action or Notice of Denial is issued by State agencies to participating households whose benefits will be reduced or terminated as the result of a change in household circumstances. Should the State agency independently verify unreported or underreported income discovered through NDNH, and that income results in a reduction of benefits or change in eligibility, the State agency must take action by issuing the household a Notice of Adverse Action or Notice of Denial and adjust or deny benefits accordingly.

Burden Estimates: The previous burden for this collection was 521,719.02 reporting hours (482,290.88 reporting burden hours for State agencies + 39,428.14 reporting burden hours for households). The requested burden is 3,365,064.98 (1,261,899.37 reporting burden hours for State agencies + 2,103,165.61 reporting burden hours for households), which represents an increase of 2,843,345.96 hours due to program adjustments. These program adjustments result from the availability of State usage data and an increase in the number of State agencies utilizing NDNH database. There are no recordkeeping or third party/disclosure requirements associated with this collection.

Reporting

Affected Public: State and local agencies, households.

Estimated Number of Respondents: 25,187,665.15.

Estimated Number of Responses per Respondent: 1.99.

Estimated Total Annual Responses: 50,375,224.29.

Estimated Time per Response: 0.0668.

Estimated Total Annual Burden on Respondents: 3,365,064.98.

Regulation | Burden activity | Estimated number of respondents | Estimated responses per respondent | Estimated total annual responses | Estimated hours per response | Estimated total annual hours
State Agency Reporting Burden
272.16 | Verification of Match; Notice of Match results | 53 | 316,825.31 | 16,791,741.43 | 0.0501 | 841,266.25
272.16 | NDNH—Notice of Adverse Action or Notice of Denial | 53 | 158,412.66 | 8,395,870.72 | 0.0501 | 420,633.12
State Agency Reporting Total | 53 | 475,237.97 | 25,187,612.15 | 0.0501 | 1,261,899.37
Household Reporting Burden
272.16 | NDNH—Response to Notice of Match Results | 16,791,741.43 | 1.00 | 16,791,741.43 | 0.0835 | 1,402,110.41
272.16 | NDNH—Response to Notice of Adverse Action or Notice of Denial | 8,395,870.72 | 1.00 | 8,395,870.72 | 0.0835 | 701,055.20
Household Reporting Total | 25,187,612.15 | 1.00 | 25,187,612.15 | 0.0835 | 2,103,165.61
Grand Totals | 25,187,665.15 | 1.999995792 | 50,375,224.29 | 0.0668 | 3,365,064.98

Tameka Owens,
Assistant Administrator, Food and Nutrition Service.

[FR Doc. 2024-05436 Filed 3-13-24; 8:45 am]

BILLING CODE 3410-30-P